DEPARTMENT OF TRANSPORTATION

Pipeline and Hazardous Materials Safety Administration

International Standards on the Transport of Dangerous Goods; Public Meetings

AGENCY: Pipeline and Hazardous Materials Safety Administration (PHMSA), Department of Transportation.

ACTION: Notice of public meeting.

SUMMARY: This notice is to advise interested persons that PHMSA will conduct public meetings in preparation for and to report the results of the 27th session of the United Nation's Sub-Committee of Experts on the Transport of Dangerous Goods (UNSCOE) to be held July 4-8, 2005 in Geneva, Switzerland.

DATES: June 22, 2005, 9:30 a.m.-12:30 p.m., Room 4438-4440, July 20, 2005, 9:30 a.m.-12:30 p.m., Room 6200-6204.

ADDRESSES: Both meetings will be held at DOT Headquarters, Nassif Building, 400 Seventh Street SW., Washington, DC 20590.

FOR FURTHER INFORMATION CONTACT: Mr. Bob Richard, Director, Office of International Standards, or Mr. Duane Pfund, Senior International Transportation Specialist, Office of Hazardous Materials, Safety, Department of Transportation, Washington, DC 20590; (202) 366-0656.

SUPPLEMENTARY INFORMATION: The primary purpose of the first meeting will be to prepare for the 27th session of the UNSCOE and to discuss draft U.S. positions on UNSCOE proposals. The primary purpose of the second meeting will be to provide a briefing on the outcome of the UNSCOE session and to prepare for the 28th session of the UNSCOE. The 27th session of the UNSCOE is the first meeting in the current biennium cycle. The UNSCOE will consider proposals for the 15th Revised Edition of the United Nations Recommendations on the Transport of Dangerous Goods Model Regulations. Topics to be covered during the public meetings include: (1) Harmonization of the Recommendations on the Transport of Dangerous Goods with other model and national regulations, (2) Transport of Dangerous Goods in limited and excepted quantities, (3) Requirements for Intermodal Bulk Containers (IBC), (4) New entries for fuel cell systems containing flammable gas, (5) Requirements related to lithium ion rechargeable batteries, (6) Harmonization with the IAEA Regulations for the safe transport of radioactive materials, (7) Miscellaneous proposals related to listing and classification and the use of packagings and tanks. The public is invited to attend without prior notification. Due to the heightened security measures participants are encouraged to arrive early to allow time for security checks necessary to obtain access to the building.

Documents

Copies of documents for the UNSCOE meeting and the meeting agenda may be obtained by downloading them from the United Nations Transport Division's Web site at: http://www.unece.org/trans/main/dgdb/dgsubc/c32005.htm. This site may also be accessed through PHMSA's Hazardous Materials Safety Homepage at http://hazmat.dot.gov/regs/intl/intstandards.htm. PHMSA's site provides additional information regarding the UNSCOE and related matters such as a summary of decisions taken at previous sessions of the UNSCOE.

Robert A. McGuire,
Associate Administrator for Hazardous Materials Safety.

[FR Doc. 05-10192 Filed 5-20-05; 8:45 am]

BILLING CODE 4910-60-M